COMMITTEE FOR PURCHASE FROM PEOPLE WHO ARE BLIND OR SEVERELY DISABLED

Procurement List Additions

AGENCY: Committee for Purchase From People Who Are Blind or Severely Disabled.

ACTION: Additions to the Procurement List.

SUMMARY: This action adds to the Procurement List products and services to be furnished by nonprofit agencies employing persons who are blind or have other severe disabilities.

DATES: Effective Date: September 7, 2009.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On June 15, 2009, the Committee for Purchase From People Who Are Blind or Severely Disabled published notice (74 FR 28221-28222) of proposed addition to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 7530-00-NIB-0878—Folder File.

NSN: 7530-00-NIB-0879—Folder File.

NSN: 7530-00-NIB-0889—Folder File.

NPA: Association for Vision Rehabilitation and Employment, Inc., Binghamton, NY.

Contracting Activity: Federal Acquisition Service, GSA/FSS OFC SUP CTR—Paper Products, New York, NY.

Coverage: A-list for the total Government requirement as aggregated by the General Services Administration.

NSN: 7510-00-NIB-0862—Tape, Pressure Sensitive .75 × 1000 6 rolls per pack.

NSN: 7510-00-NIB-0863—Tape, Pressure Sensitive .75 × 1000 6 rolls per pack.

NSN: 7510-00-NIB-0864—Tape, Pressure Sensitive .75 × 1000 10 rolls per pack.

NPA: Alphapointe Association for the Blind, Kansas City, MO.

Contracting Activity: Federal Acquisition Service, GSA/FSS OFC SUP CTR—Paper Products, New York, NY.

Coverage: A-list for the total Government requirement as aggregated by the General Services Administration.

NSN: 7520-00-NIB-2016—Highlighter, Biodegradable.

NPA: West Texas Lighthouse for the Blind, San Angelo, TX.

Contracting Activity: Federal Acquisition Service, GSA/FSS OFC SUP CTR—Paper Products, New York, NY.

Coverage: A-list for the total Government requirement as aggregated by General Services Administration.

NSN: MR 520—3 Pack Holiday Soy Candle.

NPA: Industries for the Blind, Inc., West Allis, WI.

Contracting Activity: Defense Commissary Agency (DeCA)—Military Resale, Fort Lee, VA.

Coverage: C-list for the total requirement of Defense Commissary Agency.

NSN: 7220-00-NSH-0007—Mat, Floor.

NSN: 7220-00-NSH-0009—Mat, Floor.

NSN: 7220-00-NSH-0010—Mat, Floor.

NPA: Northeastern Michigan Rehabilitation and Opportunity Center (NEMROC), Alpena, MI.

Contracting Activity: Federal Acquisition Service, GSA/FAS Southwest Supply Center (QSDAC), Fort Worth, TX.

Coverage: B-list for the broad Government requirement as aggregated by the General Services Administration.

NSN: MR 300—Camelbak Thermos Shippers.

NSN: MR 832—Tomato Saver Shippers.

NPA: Winston-Salem Industries for the Blind, Winston-Salem, NC.

Contracting Activity: Defense Commissary Agency (DeCA)—Military Resale, Fort Lee, VA.

Coverage: C-list for the total requirement of Defense Commissary Agency.

Services

Service Type/Location: Custodial Services;

U.S. Capitol Building, Capitol Visitor Center, 2nd and D Street, SW, Washington, DC.

NPA: FEDCAP Rehabilitation Services, Inc., New York, NY.

Contracting Activity: Architect of the Capitol, Washington, DC.

Service Type/Location: Facility Management;

Schofield Barracks, Schofield, HI,

Helemano Military Reservation, Wahiawa, HI,

Tripler Army Medical Center, HI,

Wheeler Army Air Field, Schofield Barracks, HI, Fort Shafter, HI.

NPA: Goodwill Contract Services of Hawaii, Inc., Honolulu, HI.

Service Type/Location: Grounds Maintenance Service;

Schofield Barracks, Schofield, HI,

Helemano Military Reservation, Wahiawa, HI,

Tripler Army Medical Center, HI,

Wheeler Army Air Field, Schofield Barracks, HI, Fort Shafter, HI.

NPA: Lanakila Rehabilitation Center, Honolulu, HI.

Contracting Activity: Department of the Army, Fort Shafter, HI.

Barry S. Lineback,
Director, Business Operations.

[FR Doc. E9-18925 Filed 8-6-09; 8:45 am]

BILLING CODE 6353-01-P